DEPARTMENT OF HEALTH AND HUMAN SERVICES

Centers for Disease Control and Prevention

[30Day-20-20EU]

Agency Forms Undergoing Paperwork Reduction Act Review

In accordance with the Paperwork Reduction Act of 1995, the Centers for Disease Control and Prevention (CDC) has submitted the information collection request titled Capacity Building Assistance Program: Data Management, Monitoring, and Evaluation to the Office of Management and Budget (OMB) for review and approval. CDC previously published a “Proposed Data Collection Submitted for Public Comment and Recommendations” notice on January 28, 2020 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Capacity Building Assistance Program: Data Management, Monitoring, and Evaluation—New—National Center for HIV/AIDS, Viral Hepatitis, STD, and TB Prevention (NCHHSTP), Centers for Disease Control and Prevention (CDC).

Background and Brief Description

The Centers for Disease Control and Prevention (CDC) partners with the national HIV prevention workforce to: (1) Ensure that persons with HIV (PWH) are aware of their infection and successfully linked to medical care and treatment to achieve viral suppression and (2) expand access to pre-exposure prophylaxis (PrEP), condoms, and other proven strategies for persons at risk of becoming infected. CDC funds state and local health departments and community-based organizations (CBOs) to optimally plan, integrate, implement, and sustain comprehensive HIV prevention programs and services for people with and at greatest risk of HIV infection, including blacks/African Americans; Hispanics/Latinos; all races/ethnicities of gay, bisexual, and other men who have sex with men (MSM); people who inject drugs (PWID); and transgender persons.

Through the CDC cooperative agreement program entitled CDC-RFA-PS19-1904: Capacity Building Assistance (CBA) for High Impact HIV Prevention Program Integration, the CDC Division of HIV/AIDS Prevention (DHAP) funds the CBA Provider Network (CPN) to deliver CBA to CDC-funded health departments and CBOs. CBA provided by the CPN include trainings and technical assistance (TA) that enable the HIV prevention workforce to optimally plan, implement, integrate, and sustain high-impact prevention interventions and strategies to reduce HIV infections and HIV-related morbidity, mortality, and health disparities across the United States and its territories. This information collection evaluates CDC-RFA-PS19-1904. Specifically, the CDC is requesting the Office of Management and Budget (OMB) to grant a three-year approval to collect data through the use of four web-based instruments that will be administered to recipients of CBA services and their program managers: (1) Learning Group Registration; (2) Post-Training Evaluation (PTE); (3) Post-Technical Assistance Evaluation (PTAE); and (4) Training and Technical Assistance Follow-up Survey (TTAFS).

CBA training participants will complete the Learning Group Registration Form as part of the process for enrolling in a CBA training. The Learning Group Registration Form collects demographic information about training participants including: (1) Business contact information (e.g., email and telephone number); (2) primary [employment] functional role; (3) employment setting; and (4) programmatic and population areas of focus. After an online or in-person training event is completed, training participants are invited to complete the PTE. The PTE is designed to elicit information from training participants about their satisfaction with the training delivery method and course content.

Similar to the PTE, the PTAE consists of questions designed to elicit information from TA participants about their satisfaction with aspects of TA such as the relevance of the materials provided or created, responsiveness of the TA provider, TA participants' changes in knowledge or skills as a result of the TA, and barriers and facilitators to implementation of interventions/public health strategies. The TTAFS collects organizational-level data every six months from the program managers within CDC-funded programs. Program managers provide information about the implementation status of the intervention/public heath strategy for which their staff received training and/or TA. Program managers are also asked to describe how their organization applied the training and TA (e.g., planning or adapting an intervention/public health strategy).

The Learning Group Registration Form, PTE, and PTAE will be administered to CDC-funded program staff who participate in a training or TA event offered by a CBA provider funded under PS19-1904. The TTAFS will be administered to the program managers of state and local health department staff and CBO staff who participate in a CBA training or TA event. Respondents will provide information electronically through an online survey. The option to complete surveys via a telephone interview will be offered to respondents who do not complete the online survey within seven days.

The number of respondents is calculated based on an average of the number of health professionals, including doctors, nurses, health educators, and disease intervention specialists, trained by CBA providers during the years 2016-2018. We estimate 3,800 health professionals will provide one response for the Learning Group Registration; 3,800 health professionals will provide a response for the PTE for each training episode; 3,650 health professionals will provide a response for the PTAE for each TA episode; and 189 program managers will provide two responses to the TTAFS in the web-based or telephone survey per year.

The information collected will allow CDC to:

(1) Identify and respond to public health program performance issues identified through feedback from health departments and CBOs;

(2) Identify and respond to new HIV prevention training and TA needs of health departments and CBOs;

(3) Provide a timely and accurate response to federal, state, and local agencies and other stakeholders seeking information about the types and quality of CBA services delivered.

No other federal agency collects this type of national HIV prevention capacity building data.

The total annualized burden is 1,671 hours. There are no other costs to respondents other than their time.

Estimated Annualized Burden Hours
Type of respondent | Form name | Number of respondents | Number responses per respondent | Average burden per response (in hours)
Healthcare Professionals | Learning Group Registration | 3,800 | 1 | 5/60
Healthcare Professionals | Post-Training Evaluation | 3,800 | 2 | 5/60
Healthcare Professionals | Post-Technical Assistance Evaluation | 3,650 | 2 | 5/60
Program Managers | Training and TA Follow-up Survey | 139 | 2 | 18/60
Program Managers | Training and TA Telephone Script | 50 | 2 | 18/60

Jeffrey M. Zirger,
Lead, Information Collection Review Office, Office of Scientific Integrity, Office of Science, Centers for Disease Control and Prevention.

[FR Doc. 2020-16795 Filed 7-31-20; 8:45 am]

BILLING CODE 4163-18-P